DEPARTMENT OF COMMERCE

National Oceanic and Atmospheric Administration

50 CFR Part 635

RIN 0648-BC09

Atlantic Highly Migratory Species (HMS); 2006 Consolidated Highly Migratory Species Fishery Management Plan; Amendment 7

AGENCY: National Marine Fisheries Service (NMFS), National Oceanic and Atmospheric Administration (NOAA), Department of Commerce.

ACTION: Notice of rescheduled public hearings.

SUMMARY: On August 22, 2013, NMFS published a notice of public hearings for Draft Amendment 7 to the 2006 Consolidated Highly Migratory Species (HMS) Fishery Management Plan (2006 Consolidated HMS FMP), which provided dates and locations for ten scheduled public hearings. Three of the ten scheduled public hearings were cancelled due to the shut-down of the Federal Government from October 1 through 16, 2013. In this document, NMFS announces the dates and locations for three rescheduled public hearings to provide opportunities for members of the public to comment on the management measures proposed in Draft Amendment 7. The Amendment 7 proposed rule, which published August 21, 2013, includes a variety of management measures to ensure sustainable management of bluefin tuna consistent with the 2006 Consolidated HMS FMP and address ongoing management challenges in the Atlantic bluefin tuna fisheries.

DATES: The rescheduled public hearings will be held on November 12 and 13, and December 3, 2013. Written comments will be accepted until December 10, 2013. See SUPPLEMENTARY INFORMATION for specific meeting dates, times, and locations.

ADDRESSES: The rescheduled public hearings will be held in Florida, and New Jersey. See SUPPLEMENTARY INFORMATION for dates, times, and locations.

You may submit comments on the proposed rule, identified by “NOAA-NMFS-2013-0101,” by any of the following methods:

• Electronic Submission: Submit all electronic public comments via the Federal e-Rulemaking Portal. Go to www.regulations.gov/#!docketDetail;D=NOAA-NMFS-2013-0101, click the “Comment Now!” icon, complete the required fields, and enter or attach your comments. Do not submit electronic comments to individual NMFS staff.

• Mail: Submit written comments to Thomas Warren, Highly Migratory Species Management Division, NMFS, 55 Great Republic Drive, Gloucester, MA 01930. Please mark the outside of the envelope “Comments on Amendment 7 to the HMS FMP.”

• Fax: 978-281-9340; Attn: Thomas Warren.

• Instructions: Comments must be submitted by one of the above methods to ensure that the comments are received, documented, and considered by NMFS. Comments sent by any other method, to any other address or individual, or received after the end of the comment period, may not be considered. All comments received are a part of the public record and generally will be posted for public viewing on www.regulations.gov without change. All Personal Identifying Information (e.g., name, address, etc.), confidential business information, or otherwise sensitive information submitted voluntarily by the sender will be publicly accessible. Do not submit Confidential Business Information or otherwise sensitive or protected information. NMFS will accept anonymous comments (enter “N/A” in the required fields if you wish to remain anonymous). You may submit attachments to electronic comments in Microsoft Word or Excel, or Adobe PDF file formats only.

FOR FURTHER INFORMATION CONTACT: Thomas Warren or Brad McHale at 978-281-9260; Craig Cockrell or Jennifer Cudney at 301-427-8503.

SUPPLEMENTARY INFORMATION: The North Atlantic tuna fisheries are managed under the dual authority of the Magnuson-Stevens Fishery Conservation and Management Act (Magnuson-Stevens Act) and the Atlantic Tunas Convention Act (ATCA). Under the Magnuson-Stevens Act, NMFS must manage fisheries to maintain optimum yield on a continuing basis while preventing overfishing. ATCA authorizes the Secretary of Commerce (Secretary) to promulgate regulations, as may be necessary and appropriate to carry out recommendations of the International Commission for the Conservation of Atlantic Tunas (ICCAT). The authority to issue regulations under the Magnuson-Stevens Act and ATCA has been delegated from the Secretary to the Assistant Administrator for Fisheries, NMFS. Management of these species is described in the 2006 Consolidated HMS FMP, which is implemented by regulations at 50 CFR part 635. Copies of the 2006 Consolidated HMS FMP and previous amendments are available from NMFS on request (see FOR FURTHER INFORMATION CONTACT).

On August 21, 2013 (78 FR 52032) NMFS published proposed regulations to implement Amendment 7 to the 2006 Consolidated HMSFMP to control bluefin landings and dead discards in the pelagic longline fishery, enhance reporting in all categories, and ensure U.S. compliance with the ICCAT-recommend quota. As described in the proposed rule, the proposed management measures include: (1) Allocation measures that would make modifications to how the U.S. bluefin quota is allocated among the quota categories; (2) Area Based measures that would implement restrictions on the use of pelagic longline gear in various time and area combinations, modify gear restrictions, or provide conditional access to current pelagic longline closed areas; (3) Bluefin Quota Controls that would strictly limit the total catch (landings and dead discards) of bluefin in the Longline category using different strategies; (4) Enhance Reporting measures that would implement a variety of new bluefin reporting requirements; and (5) Other Measures that would make modifications to the rules that control how the various quota categories utilize quota, and implement a northern albacore tuna quota. Although the Amendment 7 proposed rule set the end of the comment period to October 23, 2013, NMFS subsequently extended the end of the comment period to December 10, 2013, in order to provide additional time for the public to consider the proposed rule, given its length and complexity, and in light of any potential new recommendations adopted by ICCAT at its November 2013 meeting (78 FR 57340; September 18, 2013).

Status of Public Hearings and Request for Comments: Seven public hearings have been held to date: San Antonio, TX; Gloucester, MA; Manteo, NC; Charleston, SC; Belle Chasse, LA; Portland, ME; and Panama City, FL. NMFS also conducted consultations with the New England Fishery Management Council, the Gulf of Mexico Fishery Management Council, and the South Atlantic Fishery Management Council. The public hearings that were scheduled in Fort Pierce, FL; St. Petersburg, FL; and Toms River, NJ; for October 1, 2, and 8, respectively; and the scheduled consultation with the Mid-Atlantic Fishery Management Council on October 7, were cancelled due to the Federal Government shut-down from October 1 through 16, 2013. The public hearings in Fort Pierce, FL; St. Petersburg, FL; and Toms River, NJ have been rescheduled for November 12, and 13, and December 3, 2013, respectively, to provide the opportunity for public comment on potential management measures. See Table 1 for dates, times and locations of the rescheduled public hearings.

Table 1—Dates, Times and Locations of Rescheduled Public Hearings
Venue | Date/time | Meeting locations | Location contact information
Public Hearing | November 12, 2013, 6 p.m.-10 p.m | Fort Pierce, FL | Days Inn Fort Pierce, 3224 U.S. 1, Fort Pierce, FL 34982, (772) 465-7000.
Public Hearing | November 13, 2013, 6 p.m.-10 p.m | St. Petersburg, FL | National Marine Fisheries Service, Southeast Regional Office, 263 13th Avenue South, Saint Petersburg, Florida 33701, (727) 824-5301.
Public Hearing | December 3, 2013, 6 p.m.-10 p.m | Toms River, NJ | Ocean County, Public Administration Building, Freeholders Meeting Room (119), 101 Hooper Ave., Toms River, NJ 08754, (732) 929-2147.

Public Hearing Code of Conduct

The public is reminded that NMFS expects participants at public hearings, council meetings, and phone conferences to conduct themselves appropriately. At the beginning of each meeting, a representative of NMFS will explain the ground rules (e.g., alcohol is prohibited from the meeting room; attendees will be called to give their comments in the order in which they registered to speak; each attendee will have an equal amount of time to speak; attendees may not interrupt one another; etc.). NMFS representative(s) will structure the meeting so that all attending members of the public will be able to comment, if they so choose, regardless of the controversial nature of the subject(s). Attendees are expected to respect the ground rules, and those that do not will be asked to leave the meeting.

Authority: 16 U.S.C. 971 et seq; 16 U.S.C. 1801 et seq.

Dated: October 30, 2013.
Emily H. Menashes,
Deputy Director, Office of Sustainable Fisheries, National Marine Fisheries Service.

[FR Doc. 2013-26451 Filed 10-31-13; 4:15 pm]

BILLING CODE 3510-22-P